DEPARTMENT OF HEALTH AND HUMAN SERVICES

Centers for Disease Control and Prevention

Advisory Committee on Immunization Practices (ACIP)

Correction

This notice was published in the Federal Register on February 1, 2012, Volume 77, Number 21, Page 5026. The matters to be discussed and times should read as follows:

Matters To Be Discussed: The agenda will include discussions on: meningococcal vaccine, hepatitis B vaccine, tetanus, diphtheria, and acellular pertussis (Tdap) vaccine, influenza, vaccine supply, 13-valent pneumococcal conjugate vaccine, and measles-mumps-rubella (MMR) vaccine. Recommendation vote is scheduled for Tdap vaccine. Time will be available for public comment.

Agenda items are subject to change as priorities dictate.

Times and Dates:

8 a.m.-5 p.m., February 22, 2012.

8 a.m.-12:30 p.m., February 23, 2012.

The Meeting is Web cast live via the World Wide Web; for instructions and more information on ACIP please visit the ACIP Web site: http://www.cdc.gov/vaccines/recs/acip/.

Contact Person for More Information: Stephanie B. Thomas, National Center for Immunization and Respiratory Diseases, CDC, 1600 Clifton Road NE., MS-A27, Atlanta, Georgia 30333, telephone: (404)639-8836; Email ACIP@CDC.GOV.

The Director, Management Analysis and Services Office, has been delegated the authority to sign Federal Register notices pertaining to announcements of meetings and other committee management activities for both the Centers for Disease Control and Prevention and the Agency for Toxic Substances and Disease Registry.

Dated: February 8, 2012.
Elaine L. Baker,
Director, Management Analysis and Services Office, Centers for Disease Control and Prevention.

[FR Doc. 2012-3481 Filed 2-14-12; 8:45 am]

BILLING CODE 4163-18-P